DEPARTMENT OF LABOR

Office of Disability Employment Policy

Telework/Telecommuting Pilot Demonstration Grant for Adults with Significant Disabilities

AGENCY: Office of Disability Employment Policy, DOL.

ACTION: Notice of availability of funds and Solicitation for Grant Applications (SGA) for Telework/Telecommuting Pilot Demonstrations (SGA 02-16).

SUMMARY: The U.S. Department of Labor (“DOL” or “Department”), Office of Disability Employment Policy (“ODEP”), announces the availability of $1,000,000 to award one competitive grant to support the implementation and evaluation of three pilot demonstration projects involving DOL and two other Federal agencies over a period of 24 months designed to evaluate the extent to and the manner in which various home-based telework/telecommuting arrangements can enhance the employment of people with disabilities. This solicitation responds to an expression of Congressional intent in the Conference Report to ODEP's FY 2002 appropriation to set up these programs and to “include in these pilots all appropriate positions, whether the work is performed in-house, contracted, or outsourced in the types of jobs which can be performed from home, such as customer service/call contact centers, and claims, loan or financial transaction processing operations.” (H. Conf. Rep. No. 342, 107th Cong., 1st Sess. (2001)). Integral to the pilot projects will be tailored/individualized training, appropriate technology, and supportive mechanisms (e.g., reasonable accommodations, job coaching, shadowing, mentoring, customized employment, etc.).

A critical element of this endeavor will be the generation of data and information on successful strategies and approaches to telework/telecommuting, the difficulties and challenges that may be encountered, and mechanisms for addressing these challenges. This data will be used by DOL and other Federal entities in considering the development of telework/telecommuting options as an alternative to more traditional types of employment, particularly for people with significant disabilities.

The funds for this solicitation will be used to develop, implement, and evaluate three discrete pilot demonstration projects. The first pilot will be conducted at the U.S. Department of Labor and will involve the Labor Department's current call center operation. The other two pilot projects must involve two other types of jobs that can be performed from home such as customer service, claims, loan, financial transaction or processing operations in two additional Federal agencies.

These pilot demonstration projects will be staggered; each pilot will begin at a different time. Each pilot will run for a total of nine months—six months for a training/trial work period, and an additional three months for follow-up. The grantee funded under this solicitation must: (1) Identify positions appropriate for home-based work among the three Federal agencies included in the overall project; (2) equip and train qualified individuals with significant disabilities for these positions; and (3) report on the results of the telework/telecommuting pilot.

DATES: One ink-signed original, completed grant application plus two copies of the Technical Proposal and two copies of the Cost Proposal must be submitted to the U.S. Department of Labor, Procurement Services Center, Attention: Grant Officer Reference SGA 02-16, Room N-5416, 200 Constitution Avenue, NW., Washington, DC 20210, not later than 4:45 p.m. Eastern Daylight Savings Time (EDST) September 4, 2002. Hand-delivered applications must be received by the Procurement Services Center by that time.

ADDRESSES: Applications must be directed to the U.S. Department of Labor, Procurement Services Center, Attention: Grant Officer, Reference SGA 02-16, Room N-5416, 200 Constitution Avenue, NW., Washington, DC 20210.

FOR FURTHER INFORMATION CONTACT: Application announcements or forms will not be mailed. The Federal Register may be obtained from your nearest government office or library. In addition, a copy of this notice and the application requirement may be downloaded from the Office of Disability Employment Policy's Web site at http://www2.dol.gov/odep. Questions concerning this solicitation should be directed to Cassandra Willis at phone (202) 693-4570 (this is not a toll-free number). Persons who are deaf or hard of hearing may contact the Department via the Federal Relay Service, (800) 877-8339.

Late Proposals: All applicants are advised that U.S. mail delivery in the Washington, DC area has been erratic due to concerns involving anthrax contamination. All applicants must take this into consideration when preparing to meet the application deadline. Therefore, it is recommended that you confirm receipt of your application(s) by contacting Cassandra Willis, U.S. Department of Labor, Procurement Services Center, at (202) 693-4570, prior to the closing deadline. Persons who are deaf or hard of hearing may contact the Department via the Federal Relay Service, (800) 877-8339.

Acceptable Methods of Submission: The grant application package must be received at the designated place by the date and time specified or it will not be considered. Any application received at the Office of Procurement Services Center after 4:45 p.m., EDST, September 4, 2002, will not be considered unless it is received before the award is made and:

1. It was sent by registered or certified mail not later than the fifth calendar day before September 4, 2002; or 2. It was sent by U.S. Postal Service Express Mail Next Day Service-Post Office to Addressee, not later than 5 p.m. at the place of mailing two working days, excluding weekends and Federal holidays, prior to September 4, 2002; and/or

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request the postal clerk place a legible hand cancellation “bull's-eye” postmark on both the receipt and the envelope or wrapper.

The only acceptable evidence to establish the time of receipt at the U. S. Department of Labor is the date/time stamp of the Procurement Services Center on the application wrapper or other documentary evidence or receipt maintained by that office.

Applications sent by other delivery services, such as Federal Express, UPS, etc., will also be accepted; however the Department does not accept dates or date stamps on such packages as evidence of timely mailing. Thus, the applicant bears the responsibility of timely submission.

All applicants are advised that U.S. mail delivery in the Washington, DC area has been erratic due to concerns involving anthrax contamination. All applicants must take this into consideration when preparing to meet the application deadline. Therefore, it is recommended that you confirm receipt of your application by contacting Cassandra Willis, U.S. Department of Labor, Procurement Services Center, telephone (202) 693-4570 (this is not a toll-free number), prior to the closing deadline. Persons who are deaf or hard of hearing may contact the Department via the Federal Relay Service, (800) 877-8339.

SUPPLEMENTARY INFORMATION:

I. Authority

Consolidated Appropriations Act, 2001, Public Law 106-554, 114 Stat. 2763; 29 U.S.C. 557b; DOL, HHS, Education and Related Appropriations Act, 2002, Public Law 107-116, 115 Stat. 2177.

II. Background

The mission of the Office of Disability Employment Policy (ODEP) is to provide leadership to increase employment opportunities for adults and youth with disabilities through expanded access to training, education, employment supports, assistive technology, integrated employment, entrepreneurial development and small business opportunities. ODEP fosters the creation of employment opportunities by building partnerships with both public and private sector employers, and with regional and local agencies to: (1) Increase their awareness and experience the benefits of employing people with disabilities, including significant disabilities; and (2) facilitate the use of effective strategies to accomplish this goal.

Workers with significant disabilities are an important and insufficiently tapped resource for employers. As such, ODEP is committed to ensuring appropriate skills development and training opportunities, and supporting and encouraging the creative use of alternative employment strategies and employment supports for this population segment. Congress included $1,000,000 in FY 2002 for ODEP to explore the feasibility of developing and extending home-based telework/telecommuting options to people with significant disabilities through an evaluation of pilot demonstration projects. (H. Conf. Rep. No. 342, 107th Cong., 1st Sess. (2001)).

In general, “telework/telecommuting” is a collective term for a wide variety of work arrangements. Teleworkers/telecommuters may be employees or independent contractors who may work full-time or part-time. In addition teleworkers/telecommuters may work from home or a telecenter all of the time, or may alternate between the two. For the purposes of this solicitation, telework/telecommuting will refer to home-based settings only.

As a general matter, telework/telecommuting provides opportunities for all employees and employers seeking alternative employment options. For employers, telework/telecommuting can be useful in solving business problems by decreasing certain overhead costs; satisfying fluctuating demands for additional office and parking space; and helping its employees balance work and family demands and thereby increase their loyalty, productivity, and retention. For certain employees, telework/telecommuting is appealing because it can eliminate long commutes, and is flexible—allowing for balancing of work and home life, and reduced workplace distractions.

For people with significant disabilities, telework/telecommuting sometimes presents the most viable opportunity to work, due to the lack of reliable and available employment supports such as transportation and personal assistance. While telework/telecommuting is not a complete solution to the employment barriers encountered by persons with significant disabilities, home-based work can be an effective way of bringing persons with severe or significant disabilities who have limited ability to leave their homes into the workforce.

Effective telework/telecommuting policies are key to successful telework/ telecommuting arrangements for persons with and without disabilities. Accordingly, the best practices derived from this project are likely to have utility extending beyond the employment of people with disabilities to the population generally.

III. Purpose and Parameters

The purpose of the grant award is to explore using telework/telecommuting in innovative ways in Federal agencies to support high quality employment for people with significant disabilities. Specifically, it will provide DOL and other participating agencies with a means to assess the extent to which tailored/individualized training, appropriate technology, and supportive mechanisms (e.g., reasonable accommodations, job coaching, shadowing, mentoring, customized employment, etc.) can facilitate various telework/telecommuting arrangements for people with significant disabilities. Through its evaluation research component, the grant will also generate data on both the benefits and the challenges encountered in creating home-based telework/telecommuting options for people with significant disabilities.

All forms necessary to prepare an application are included in this SGA. Additional forms can be obtained from the following OMB Web site address: www.whitehouse.gov/OMB/grants/forms.html. In responding to the SGA, the applicant must take into account the following parameters of this project:

• The award will support one grant that will be used to develop, implement, evaluate, and disseminate information that can increase critical knowledge of and provide data about “best practices” in a home-based telework/telecommuting environment for people with significant disabilities.

• The first pilot will be conducted at the U.S. Department of Labor and will involve the Labor Department's current call center operation. The other two pilot projects will involve two of the following: customer service, claims, loan, financial transaction or processing centers in two additional Federal agencies.

• For the purposes of this solicitation, “telework/telecommuting” is defined as work performed in a home-based workstation.

• The grantee must: (1) Identify appropriate positions within the three Federal agencies included in the overall project; (2) equip and train qualified individuals with significant disabilities for these positions; and (3) report on the results of the telework/telecommuting pilot.

• A person with a “significant disability” for purposes of this SGA is defined as an adult to whom one or more of the following applies: (1) Is a long-term user of a mobility aid (e.g., a cane or wheel chair); (2) Is unable, or needs assistance, to see, hear, or climb stairs; or (3) Is unable, or needs assistance, to get around inside the home, dress, eat, or prepare meals.

• During each nine-month pilot, the telework/telecommuting participants recruited as part of this solicitation will be employees of the applicant's organization. The applicant, therefore, may use grant funds to cover their employment costs (e.g., salaries, benefits, assistive technology, reasonable accommodations). Telework/telecommuting participants are to be compensated at prevailing rates equal to that of other trainees or employees with similar training, experience, and skills, performing similar work and such rates shall be in accordance with applicable law, but in no event less than the higher of the rate specified in section 6(a)(1) of the Fair Labor Standards Act of 1938 (29 U.S.C. 206(a)(1)) or the applicable State or local minimum wage law.

• Applicants must prepare an evaluation plan for the three pilot demonstration projects which is to include, at a minimum: (1) The number of individuals with disabilities participating in telework/telecommuting positions; (2) the participants' attrition rates; (3) information on the performance of such individuals in comparison to people without significant disabilities performing similar jobs in the participating agency; and (4) the feasibility of employing more individuals with disabilities in home-based work in other Federal agency positions.

• The success of telework/telecommuting for people with significant disabilities will be measured in terms of growth (e.g., skills development, production, hiring level, etc.) and stability. Training will be a critical element in the pilot demonstrations inasmuch as it will be important that participants recruited for the pilot projects enhance their current skills level and develop additional skills and abilities to perform telework/telecommuting tasks. Accordingly, the applicant must describe the procedures and approach it will use to ensure that the particpants' training provides them with the specific skills needed for the target occupation, including the operation of relevant equipment, including assistive technology. The applicant must also discuss how it will assess and provide appropriate telework/telecommuting supports, needed accommodations, and training in self-management skills.

• In some cases, Federal agencies, such as DOL, contract for services such as call centers, claims processing, and application processing. Applicants should note that if the Federal agency that is to be a part of this demonstration uses a contractor for a job function which is potentially appropriate for home-based telework/telecommuting environment, the agency must agree to assist the applicant in working with the Federal contractor to identify appropriate positions for the pilot demonstration project.

• The applicant must describe the procedures and approaches it will use in cases where modifications (e.g., telephone lines, software, technology, etc.) may be required to facilitate the pilot demonstration projects (e.g., a contracted call center facility). Grant funds may be used for this purpose. This kind of facilitation may be accomplished in a number of ways, for example, by a subcontract with the contracted call center under which the call center purchases and installs all of the appropriate equipment, or by direct purchase and installation by the grantee with the consent of the call center contractor.

IV. Statement of Work

The applicant must design and implement pilot demonstration projects that incorporate research-based best practices, or that develop and evaluate additional practices that are flexible, unique, and innovative.

The successful applicant will develop and outline strategies to integrate specific job functions, ordinarily performed at a centrally located facility, into home-based work settings. Therefore, the applicant must include specific details concerning its personnel and support capacity for the pilot demonstration projects; the procedures and approaches for the recruitment, retention, and management of people with significant disabilities who prefer home-based telework/telecommuting; the acquisition, installation, and maintenance of equipment that will be required; necessary security; job task training, quality assurance, supervision, and technical assistance and training for the Federal agency and contractor (if applicable) supporting the pilot demonstrations.

The applicant must describe the methods and procedures for collecting, analyzing, and reporting data from the evaluation of the pilot demonstration projects. The applicant must describe the procedures and approaches for working with three Federal agencies (the Department of Labor and two other Federal agencies) in order to implement the various strategies proposed in relation to the specific employment situation in each agency (e.g., call center, claims processing, and/or application processing activity.) Additionally, the applicant must provide:

(1) a detailed management plan for project goals, objectives, and activities;

(2) a detailed timeline for phasing in the three pilot demonstration projects on a staggered basis; conducting evaluations of the pilots; and producing and submitting a final report;

(3) a detailed outline for an evaluation research design which includes: (a) A justification of appropriate evaluation methodology; (b) a descriptions of the outcome measures expected to be used to evaluate the pilot demonstration projects and determine the effectiveness of each; and (c) an explanation of how the evaluation information and data collected on the pilot demonstration projects will be aggregated and analyzed for the purpose of providing useful information about the overall feasibility of home-based telework/telecommuting for people with significant disabilities performing Federal sector jobs;

(4) documentation (e.g., letter of intent, memorandum of agreement) which reflects that each Federal agency which is to be included in the pilot demonstration project is committed to participating and working cooperatively with the applicant; or alternatively, a description of the process the applicant will use to recruit, enlist, and secure cooperation with each Federal agency the applicant wishes to include in the projects;

(5) a description detailing a plan for designing three distinct telework/ telecommuting pilots in different environments. The first pilot will be conducted at the U.S. Department of Labor and will involve the Labor Department's current call center operation. The other two pilot projects must involve two other types of jobs that can be performed from home such as customer service, claims, loan, financial transaction or processing operations in two additional Federal agencies.

(6) a description of the procedures and approaches that will be used to integrate home-based telework/telecommuting into the existing infrastructure of any organizations currently providing contractual services within participating Federal agencies; and identify positions appropriate for home-based telework/telecommuting within the three Federal agencies included in the overall project; and address and resolve any problems and barriers;

(7) a description of the procedures and approaches which the applicant will use to: (a) Recruit and retain pilot demonstration participants; (b) employ pilot demonstration participants for up to nine months; (c) replace participants who drop out of the project, to the extent that funds and time will allow; and (d) address and resolve any other problems and barriers;

(8) a description of the procedures and approaches the applicant will use for: (a) The acquisition, installation, and maintenance of required equipment and implementation of necessary security measures; (b) job task training, quality assurance, and supervision; and (c) for providing technical assistance and training to the entity(ies) providing contractual services to the Federal government in jobs appropriate for home-based telework/telecommuting which are to be included in the pilot demonstrations;

(9) a detailed description of procedures and materials that would enable others to replicate the successful strategies developed; and

(10) a description of procedures and approaches which will be used to provide ongoing communication and collaboration with, and input from ODEP's Project Officer on all grant-related activities.

Utilizing grant funds, the applicant must support the travel cost associated with sending at least one representative for two days to the annual ODEP Grantees' training conference, to be held in Washington, DC.

V. Funding Availability and Period of Performance

The period of performance will be 24 months from the date of the execution of the award unless extended by the Government. The amount of the grant awarded will be $1,000,000. It is expected that the costs associated with each individual pilot will vary, as the job functions/tasks and technology required to perform home-based teleworking/telecommuting within a participating agency will be different. The funds used for this SGA will support the costs associated with the development and implementation of the three Federal pilot demonstration projects, one of which is to be at DOL, to determine whether, and to what extent, home-based telework/telecommuting represents viable employment alternative for people with significant disabilities and for Federal agencies. To this end, the applicant may use the available funds to conduct a variety of activities to support these pilots such as recruitment, retention, training, acquiring needed technology and equipment, making modifications, planning, management activities, and evaluations. To the extent possible, the applicant should provide specific cost estimates and justifications for costs in its application. With the agreement of the grantee, the Department also may elect to change, modify, and/or supplement this grant during this period based on the Department's needs.

VI. Eligible Applicants

Applications will be accepted from both for profit and non-profit organizations. States and other governmental entities are ineligible. Applicants must have demonstrated experience in employment and disability research, and have demonstrated experience and capacity for providing services related to telework/telecommuting or technology generally for people with disabilities. According to section 18 of the Lobbying Disclosure Act of 1995, an organization, as described in section 501(c)(4) of the Internal Revenue Code of 1986, that engages in lobbying activities will not be eligible for the receipt of Federal funds constituting an award, grant, or loan. [See 2 U.S.C. 1611; 26 U.S.C. 501(c)(4).]

VII. Application Contents

General Requirements—Two copies and an original of the proposal must be submitted, one of which must contain an original signature. Proposals must be submitted by the applicant only. There are three required sections of the application. Requirements for each section are provided in this application package.

Part I—Executive Summary

The Executive Summary may not be more than two single-spaced pages in length giving a clear summary of the project narrative.

Part II—Project Narrative—(Appendices—Letters of Commitment/Support, Resumes, etc.)

Applicants must include a narrative that addresses the Statement of Work in Part IV of the notice and the evaluation/selection criteria in Part VIII that will be used by reviewers in evaluating the application. You must limit Part II to the equivalent of no more than 75 pages using the following standard. This page limit does not apply to Part I the Executive Summary; Part III the Project Financial Plan (Budget); and, the Appendices (the assurances and certifications, resumes, a bibliography or references, and the documentation of commitment/letters of support).

A page is 8.5″ x 11″ (on one side only) with one-inch margins (top, bottom, and sides). All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch.)

Part III—Project Financial Plan (Budget)

Applications must include a detailed financial plan, which identifies by line item the budget plan designed to achieve the goals of this grant. The Financial Plan must contain the SF-424, Application for Federal Assistance, (Appendix A) and a Budget Information Sheet SF-424A (Appendix B).

In addition, the budget must include, on a separate page, a detailed cost analysis of each line item. Justification for administrative costs must be provided. Approval of a budget by DOL is not the same as the approval of actual costs. The individual signing the SF-424 on behalf of the applicant must represent and be able to legally bind the responsible financial and administrative entity for a grant should that application result in an award. The applicant must also include the Assurances and Certifications Signature Page (Appendix C).

VIII. Evaluation Criteria/Selection

A. Evaluation Criteria

The application must include appropriate information of the type described below.

1. Significance of the Proposed Project (25 points)

In determining the significance of the proposed project, the Department considers the following factors:

a. The potential contribution of the proposed project to increase knowledge or understanding of problems, issues, or effective strategies for providing home-based telework/telecommuting options to people with significant disabilities as an alternative to traditional types of employment;

b. The extent to which the proposed project is likely to yield findings that may be used by other appropriate agencies and organizations;

c. The extent to which the proposed project involves the development or demonstration of promising new strategies that build upon, or are alternatives to, existing strategies;

d. The likely utility of the products (such as information, materials, processes, or techniques) that will result from the proposed project, including their potential for being used effectively in a variety of other settings;

e. The extent to which the promising practices of the proposed project are to be disseminated in ways that will enable others to use the information or strategies;

f. The potential replicability (national significance) of the proposed project or strategies, including, as appropriate, the potential for implementation in a variety of settings; and

g. The importance or magnitude of the results that are likely to be attained by the proposed project.

2. Quality of the Project Design (20 points)

In evaluating the quality of the proposed project design, the Department considers the following factors:

a. The adequacy of the documentation submitted in support of the proposed project to demonstrate the commitment of each Federal agency which is be included in the pilot demonstration or alternatively the quality of the plan that the applicant will use to recruit, enlist, and secure cooperation of Federal agencies which the applicant wishes to include in the projects;

b. The extent to which the proposal provides a description detailing a plan for designing three distinct pilot programs, in three different telework/telecommuting environments, with DOL and two additional Federal agencies.

c. The extent to which the goals, objectives, and outcomes to be achieved by the proposed project are clearly specified and measurable;

d. The extent to which the proposal incorporates the 9 key activities identified in Part IV, the Statement of Work;

e. The extent to which the design of the proposed project is appropriate to, and will successfully address the needs of the target population and other identified needs;

f. The extent to which the design of the proposed project can identify barriers and challenges associated with providing home-based telework/telecommuting options to persons with disabilities;

g. The extent to which the proposed project is designed to build capacity and yield results that will extend beyond the period of this grant;

h. The extent to which the design of the proposed project reflects a review of disability related literature, up-to-date knowledge of research and effective practices relating to planning and implementing telework/telecommuting options, and the use of appropriate methodological tools to ensure successful achievement of project objectives;

i. The extent to which the applicant encourages involvement of people with significant disabilities most likely to benefit from home-based telework/telecommuting options, and relevant experts, and organizations in project activities; and

j. The extent to which performance feedback and continuous improvement are integral to the design of the proposed project.

k. The extent to which the design of the proposed project incorporates measures adequate to ensure that the current employees of a Federal contractor or Federal agency involved in the pilot project do not suffer a loss of wages, are not displaced, and are not deprived of any rights conferred as a result of a collective bargaining agreement or an existing contract for their services or as a result of grant activities.

3. Quality of Project Personnel (15 points)

The Project Narrative must describe the proposed staffing of the project and must identify and summarize the qualifications of the personnel who will carry it out. The Project Narrative should also describe how the applicant plans to comply with the employment discrimination and equal employment opportunity requirements of the various laws listed in the assurances section.

In addition, the Department considers the qualifications, including relevant education, training and experience of key project personnel as well as the qualifications, including relevant training and experience of project consultants or subcontractors. Resumes must be included in the Appendices.

4. Budget and Resource Capacity (10 points)

In evaluating the capacity of the applicant to carry out the proposed project, the Department considers the following factors:

a. The applicant's demonstrated experience in employment and disability research, and in providing services related to telework/telecommuting or technology generally for people with disabilities;

b. The extent to which the budget is adequate to support the proposed project; and

c. The extent to which the anticipated costs are reasonable in relation to the objectives, design, and potential significance of the proposed project.

5. Quality of the Management Plan (10 points)

In evaluating the quality of the management plan for the proposed project, the Department considers the following factors:

a. The extent to which the management plan for project implementation appears likely to achieve the objectives of the proposed project on time and within budget, and includes clearly defined staff responsibilities, time allocation to project activities, time lines, milestones for accomplishing project tasks, and project deliverables;

b. The adequacy of mechanisms for ensuring high-quality products and services relating to the scope of work for the proposed project; and

c. The extent to which the time commitments of the project director and principal investigator and other key project personnel are appropriate and adequate to meet the objectives of the proposed project.

6. Quality of the Project Evaluation (20 points)

In evaluating the quality of the project's evaluation design, the Department considers the following factors:

a. The extent to which the methods of evaluation are thorough, feasible, and appropriate to the goals, objectives, context, and outcomes of the proposed project;

b. The extent to which the methods of evaluation include the use of objective performance measures that are clearly related to the intended outcomes of the project and will produce quantitative and qualitative data;

c. The extent to which the evaluation will provide information to the Federal government and other employers about effective telework/telecommuting strategies suitable for replication or testing in other settings; and

d. The extent to which the methods of evaluation measure in both quantitative and qualitative terms program results and satisfaction of adults with disabilities.

B. Selection Criteria

Acceptance of a proposal and an award of Federal funds to sponsor any program(s) is not a waiver of any grant requirement and/or procedures. The selected applicant must comply with all applicable Federal statutes, regulations, administrative requirements and OMB circulars. For example, the OMB circulars require, and an entity's procurement procedures must require, that all procurement transactions shall be conducted, as practical, to provide open and free competition. If a proposal identifies a specific entity to provide the services, the award does not provide the justification or basis to sole-source the procurement, i.e., avoid competition.

A panel will objectively rate each complete application against the criteria described in this SGA. The panel recommendations to the Grant Officer are advisory in nature. The Grant Officer may elect to award grants either with or without discussion with the applicant. In situations where no discussion occurs, an award will be based on the signed SF-424 form (see Appendix A), which constitutes a binding offer. The Grant Officer may consider the availability of funds and any information that is available and will make final award decisions based on what is most advantageous to the government, considering factors such as:

(1) The findings of the grant technical evaluation panel; and

(2) The geographic distribution of the sites of the three demonstration projects.

IX. Reporting

The selected applicant must submit on a quarterly basis, beginning ninety days from the award of the grant, financial and participation reports under this program as prescribed by OMB Circulars A-110 codified at 29 CFR part 95. Specifically the following reports will be required:

1. Quarterly report: The quarterly report is estimated to take five hours to complete. The form for the Quarterly Report will be provided by ODEP. The Department will work with the grantee to help refine the requirements of the report, which, among other things, will include measures of ongoing analysis for continuous improvement;

2. Standard Form 269: Financial Status Report Form: This form is to be completed on a quarterly basis.

3. Final Project Report: The Final Project Report is to include an assessment of project performance and outcomes achieved. It is estimated that this report will take twenty hours to complete. This report will be submitted in hard copy and on electronic disk using a format and following instructions, which will be provided by the Department. A draft of the final report is due to the Department thirty days before the termination of the grant. The final report is due to DOL 60 days following the termination of the grant.

The Department will arrange for an independent evaluation of outcomes, impacts, and benefits of the project. The selected applicant must make records and data available to external evaluation personnel, as specified by the Department.

X. Administration Provisions

A. Administrative Standards and Provisions

Applicants are strongly encouraged to read these regulations before submitting a proposal. The grant awarded under this SGA shall be subject to the following as applicable:

(1) 29 CFR part 95—Grants and Agreements With Institutions of Higher Education, Hospitals, and Other Non-Profit Organizations, and With Commercial Organizations, Foreign Governments, Organizations Under the Jurisdiction of Foreign Governments, and International Organizations

(2) 29 CFR part 96—Audit Requirements for Grants, Contracts, and Other Agreements.

B. Allowable Cost

Determinations of allowable costs are made in accordance with the following applicable Federal cost principles:

(1) Nonprofit Organizations—OMB Circular A-122

(2) Profit-making Commercial Firms—48 CFR part 31

Profit will not be considered an allowable cost in any case.

C. Grant Non-Discrimination Assurances

As a condition of the award, the applicant must certify that it will comply fully with the nondiscrimination and equal opportunity provisions of the following laws:

29 CFR part 31—Nondiscrimination in Federally-assisted programs of the Department of Labor, effectuation of Title VI of the Civil Rights Act of 1964.

29 CFR part 32—Nondiscrimination on the Basis of Disability in Programs and Activities Receiving or Benefiting from Federal Assistance. (Implementing section 504 of the Rehabilitation Act, 29 U.S.C. 794)

29 CFR part 36—Nondiscrimination on the Basis of Sex in Education Programs or Activities Receiving Federal Financial Assistance. (Implementing title IX of the Education Amendments of 1972, 20 U.S.C. 1681 et seq.)

The applicant must include assurances and certifications that it will comply with these laws in its grant application. The assurances and certifications are attached as Appendix C.

Signed at Washington, DC, this 30th day of July, 2002.
Lawrence J. Kuss,
Grant Officer.

APPENDIX A. Application for Federal Assistance, Form SF 424

APPENDIX B. Budget Information Sheet, Form SF 424A

APPENDIX C. Assurances and Certifications Signature Page

BILLING CODE 4510-CX-P

[FR Doc. 02-19640 Filed 8-2-02; 8:45 am]

BILLING CODE 4510-CX-C